DEPARTMENT OF HOMELAND SECURITY

Coast Guard

[Docket No. USCG-2011-1162]

Ocean Renewable Power Company, Tidal Energy Project, Cobscook Bay, ME

AGENCY: Coast Guard, DHS.

ACTION: Request for comments.

SUMMARY: The Coast Guard seeks public comments and information on how to best address the proposal put forth by Ocean Renewable Energy Company (ORPC) to install five turbine generator units secured to the ocean floor, used for generating electricity from tidal currents and is now providing the public the opportunity to provide additional comments. The proposed project will take place in the navigable waters of Cobscook Bay, between the City of Eastport and the Town of Lubec in Washington County, Maine. The proposal does not impede surface navigation, but could pose a threat to navigation safety for activities that occur within the water area where these underwater turbines operate. To protect the maritime public and underwater turbine equipment, the Coast Guard is considering several options to ensure the safety of all waterway users and is garnering comments and information from the public with regards to these various options.

DATES: All written comments and related material must be received by the Coast Guard on or before February 21, 2012.

ADDRESSES: You may submit written comments identified by docket number USCG-USCG-1162 before or after the meeting using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. Our online docket for this rulemaking is available on the Internet at http://www.regulations.gov under docket number USCG-USCG-2011-1162.

FOR FURTHER INFORMATION CONTACT: If you have questions concerning the meeting or the proposed rule, please call or email Lieutenant Megan Drewniak of the Waterways Management Division, U.S. Coast Guard Sector Northern New England; email Megan.L.Drewniak@uscg.mil, telephone 207-741-5421. If you have questions on viewing or submitting material to the docket, call Renee V. Wright, Program Manager, Docket Operations, telephone (202) 366-9826.

SUPPLEMENTARY INFORMATION:

Background and Purpose

ORPC's tidal energy project involves installation of five underwater turbines on the seabed in the navigable waters of Cobscook Bay. The nature and operation of the structure is hazardous and poses risks to the mariner. In order to mitigate the inherent risks involved with these tidal generators, it may be necessary to control or limit vessel movement and activity through the area.

Several maritime practices that involve physical contact with the seabed (e.g., anchoring, dragging, trawling, etc.) pose a specific risk to the mariner as inadvertent entanglement with an underwater turbine could pose the risk of a marine casualty. It is also conceivable that mariners who become entangled in the underwater turbine and auxiliary power cables could be electrocuted.

In order to minimize the risk of a marine casualty, entanglement, or electrocution, the Coast Guard may propose regulatory action or, in the alternative, it may decide to take other actions outside of a regulatory act. The proposed regulatory action might consist of a regulated navigation area or safety zone. This option may look to prohibit anchoring, fishing, dredging, diving, surface or submarine scientific equipment, dragging, trawling, or any other activities that could pose the risk of a marine casualty or impact the underwater turbines. It is important to note that violations of these regulations may result in law enforcement action and liable a civil or criminal penalty.

Potential non-regulatory actions that could be taken by the Coast Guard are routing measures that would amount to recommendations to the mariner of an area to be avoided or a precautionary area in which the mariner would have notice that they should avoid the area in order to reduce the risk of a marine casualty.

This request invites public comment on the merits, advantages, and disadvantages of taking action to prohibit certain activities in the vicinity of the proposed tidal energy project. We are attempting to determine the scope of any safety concerns associated with vessel navigation in the area. We expect that information gathered during the comment period and public meetings will identify any problems and appropriate solutions. We will use your comments to evaluate if the Coast Guard will pursue action within a designated area of Cobscook Bay, ME and what activities should be excluded once these underwater turbines are installed.

The Coast Guard is also interested in receiving comments and information about the current aids to navigation (ATON) configuration, proposed private aids to navigation (PATON) to mark the turbine generator units, and potential impacts associated with installation of an underwater cable assembly to transfer electricity to a power control and grid interface facility in Lubec, Maine.

You may view documents prepared by the Coast Guard in our online docket, and comments submitted thus far by going to http://www.regulations.gov. Once there, insert “USCG-2011-1162” in the “Keyword” box and click “Search.” You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

We encourage you to participate by submitting comments in writing. All comments received will be posted without change to http://www.regulations.gov and will include any personal information you have provided.

Comments must reach the Coast Guard on or before February 21, 2012. If you submit a comment online via http://www.regulations.gov, it will be considered received by the Coast Guard when you successfully transmit the comment. If you fax, hand delivery, or mail your comment, it will be considered as having been received by the Coast Guard when it is received at the Docket Management Facility.

Anyone can search the electronic form of comments received into any of our dockets by the name of the individual submitting the comment (or signing the comment, if submitted on behalf of an association, business, labor union, etc.). You may review a Privacy Act notice regarding our public dockets in the January 17, 2008, issue of the Federal Register (73 FR 3316).

Dated: January 20, 2012.
C.L. Roberge,
Captain, U.S. Coast Guard, Captain of the Port Sector Northern New England.

[FR Doc. 2012-2547 Filed 2-3-12; 8:45 am]

BILLING CODE 9110-04-P